DEPARTMENT OF COMMERCE

International Trade Administration

[A-588-810]

Final Results of Full Sunset Review: Mechanical Transfer Presses From Japan

AGENCY: Import Administration, International Trade Administration, Department of Commerce.

ACTION: Notice of final results of full sunset review: Mechanical transfer presses from Japan.

SUMMARY: On January 6, 2000, the Department of Commerce (“the Department”) published in the Federal Register (65 FR 753) the preliminary results of the full sunset review of the antidumping duty order on mechanical transfer presses from Japan (“MTP”) pursuant to section 751(c) of the Tariff Act of 1930, as amended (“the Act”). We provided interested parties an opportunity to comment on our preliminary results and received comments filed on behalf of domestic and respondent interested parties. As a result of this review, the Department finds that revocation of the antidumping duty order would be likely to lead to continuation or recurrence of dumping at the levels indicated in the Final Results of Review section of this notice.

EFFECTIVE DATE: May 3, 2000.

FOR FURTHER INFORMATION CONTACT: Martha V. Douthit or Carole A. Showers, Office of Policy for Import Administration, International Trade Administration, U.S. Department of Commerce, 14th St. & Constitution, NW, Washington, D.C. 20230; telephone: (202) 482-5050 or (202) 482-3217, respectively.

Statute and Regulations

This review was conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On January 6, 2000, the Department published in the Federal Register the Preliminary Results of Full Sunset Review: Mechanical Transfer Presses from Japan (65 FR 753). In our preliminary results, we found that revocation of the antidumping duty order on MTPs from Japan would be likely to lead to continuation or recurrence of dumping pursuant to section 751(c) of the Tariff Act of 1930, as amended (“the Act”).

On February 15, 2000 we received case briefs on behalf of the domestic interested parties, Verson Division of Allied Products, Inc. (“Verson”), and the respondent interested parties, Komatsu Ltd, and Komatsu American Industries LLC (“Komatsu”), and Hitachi Zosen Corporation and Hitachi Zosen Fukui Corporation (“HZFukui”) (collectively “the respondents”), within the deadline specified in 19 CFR 351.309(c)(1)(i). On February 22, 2000, within the deadline specified in 19 CFR 351.309(d)(1), the Department received rebuttal comments from the domestic and the respondent interested parties. The Department did not receive request for a public hearing. We have addressed the comments below.

Scope

The merchandise covered by this order is MTPs from Japan. The term “mechanical transfer press” refers to automatic metal-forming machine tools with multiple die stations in which the workpiece is moved from station to station by a transfer mechanism designed as an integral part of the press and synchronized with the press action, whether imported as machines or parts suitable for use solely or principally with these machines. These presses may be assembled or unassembled.

The Department published in the Federal Register several Notices of Scope Rulings with respect to MTPs from Japan and determined that, (1) spare and replacement parts are outside the scope of the order (see Notice of Scope Rulings, 57 FR 19602 (May 7, 1992)), (2) a destack sheet feeder designed to be used with a mechanical transfer press is an accessory and, therefore, is not within the scope of the order (see Notice of Scope Rulings, 57 FR 32973 (July 24, 1992)), (3) the FMX cold forging press is within the scope of the order (see Notice of Scope Rulings, 59 FR 8910 (February 24, 1994)), and (5) certain mechanical transfer press parts exported from Japan are outside the scope of the order (see Notice of Scope Rulings, 62 FR 9176 (February 28, 1997)). This merchandise is currently classifiable under Harmonized Tariff Schedule of the United States (“HTSUS”) item numbers 8462.99.0035 and 8466.94.5040. Although the HTSUS subheadings are provided for convenience and customs purposes, the written description remains dispositive.

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated April 26, 2000, which is hereby adopted by this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce Building.

In addition, a complete version of the Decision Memo can be accessed directly on the Web at www.ita.doc.gov/import—admin/records/frn. The paper copy and electronic version of the Decision Memo are identical in content.

Final Results of Review

As a result of this review, the Department finds that revocation of the antidumping duty order would be likely to lead to continuation or recurrence of dumping. As such, the Department will report to the Commission the company-specific and “all other” rates from the original investigation listed below.

Manufacturer/exporter | Margin (percent)
Komatsu | 15.16
Aida Engineering, Ltd | Revoked
All Others | 14.51

This notice serves as the only reminder to parties subject to administrative protective order (“APO”) of their responsibility concerning the disposition of proprietary information disclosed under APO in accordance with 19 CFR 351.305 of the Department's regulations. Timely notification of return or destruction of APO material or conversion to judicial protective order is hereby requested. Failure to comply with the regulations and the terms of an APO is a sanctionable violation.

We are issuing and publishing this determination and notice in accordance with sections 751(c), 752, and 777(i)(1) of the Act.

Dated: April 26, 2000.
Joseph A. Spetrini,
Acting Assistant Secretary for Import Administration.

[FR Doc. 00-10926 Filed 5-2-00; 8:45 am]

BILLING CODE 3510-DS-P